DEPARTMENT OF ENERGY

Federal Energy Regulatory Commission

[Docket No. EL12-69-000]

Primary Power, LLC v. PJM Interconnection, LLC; Notice of Complaint

Take notice that on May 14, 2012, pursuant to section 206 of the Rules and Practice and Procedure of the Federal Energy Regulatory Commission (Commission), 18 CFR 385.206 and sections 206 and 306 of the Federal Power Act, 16 U.S.C. 824(e) and 825(e), Primary Power, LLC (Complainant) filed a formal complaint against PJM Interconnection, LLC (PJM or Respondent) for the Respondent's failure to designate the Complainant to construct, own, and finance two static VAR compensator (“SVC”) projects sponsored by the Complainant that have been included in the PJM Regional Transmission Expansion Plan. The Complainant requests that the Commission grant emergency, interim relief by directing PJM and the Incumbent Transmission Owners not to commence construction of the Primary Power SVC Projects while this Complaint is pending before the Commission.

The Complainant states that a copy of the Complaint has been served on the contact for the Respondent as listed on the Commission list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 4, 2012.

Dated: May 15, 2012.
Kimberly D. Bose,
Secretary.

[FR Doc. 2012-12200 Filed 5-18-12; 8:45 am]

BILLING CODE 6717-01-P